DEPARTMENT OF AGRICULTURE

Submission for OMB Review; Comment Request

The Department of Agriculture has submitted the following information collection requirement(s) to OMB for review and approval under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 16, 2026 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Electronic Import Inspection.

OMB Control Number: 0583-0159.

Summary of Collection: The Food Safety and Inspection Service (FSIS) has been delegated the authority to exercise the functions of the Secretary as provided in the Federal Meat Inspection Act (FMIA) (21 U.S.C. 601 et seq.), the Poultry Products Inspection Act (PPIA) (21 U.S.C. 451 et seq.), and the Egg Products Inspection Act (EPIA) (21 U.S.C. 1031 et seq.). These statutes mandate that FSIS protect the public by verifying that meat, poultry, and egg products are safe, wholesome, and properly labeled.

The Federal Meat Inspection Act (FMIA) (21 U.S.C. 620) and the Poultry Products Inspection Act (PPIA) (21 U.S.C. 466) prohibit the importation of meat and poultry products into the United States if such products are adulterated or misbranded and unless they comply with all the inspection and other requirements of the Acts and regulations as are applied to domestic products. The Egg Products Inspection Act (EPIA) (21 U.S.C. 1046) prohibits the importation of egg products unless they were processed under an approved continuous inspection system of the government of the foreign country of origin and comply with the other pertinent requirements of the Act and regulations as they are applied to domestic products.

Need and Use of the Information: FSIS requires foreign governments to submit additional information when submitting both the foreign establishment certificate and the foreign inspection certificate to FSIS for foreign establishments to be permitted to import product to the United States.

The information that is required with the Foreign Establishment Certificate includes: the type of operation(s) conducted at the establishment (e.g., slaughter, processing, storage, exporting warehouse); the establishment's eligibility status (e.g., new or relisted (if previously delisted)); and, slaughter and processing establishment certifications that address the species and type of product(s) produced at the establishment and the process category.

Description of Respondents: Business or other for-profit.

Number of Respondents: 939.

Frequency of Responses: Recordkeeping; Reporting: On occasion; Annually.

Total Burden Hours: 49,385.

Levi S. Harrell,
Departmental Information Collection Clearance Officer.

[FR Doc. 2025-23114 Filed 12-16-25; 8:45 am]

BILLING CODE 3410-DM-P